DEPARTMENT OF THE INTERIOR

Bureau of Reclamation

Folsom Dam Road Restricted Access, Folsom, CA

AGENCY: Bureau of Reclamation, Interior.

ACTION: Notice of availability of the Final Environmental Impact Statement (EIS).

SUMMARY: Pursuant to the National Environmental Policy Act (NEPA) of 1969 (as amended), the Bureau of Reclamation (Reclamation) has prepared a Final Environmental Impact Statement (EIS) for the Folsom Dam Road Restricted Access action. The action would entail a long-term decision on the closure of Folsom Dam Road to public access.

A Notice of Availability of the Draft EIS was published in the Federal Register on Friday, December 3, 2004 (69 FR 70278). The written comment period on the Draft EIS ended on Tuesday, January 18, 2005. The Final EIS contains responses to all comments received and reflects comments and any additional information received during the review period.

DATES: Reclamation will not make a decision on the proposed action until at least 30 days after release of the Final EIS. At the end of the 30-day period, Reclamation will complete a Record of Decision (ROD). The ROD will state the action that will be implemented and will discuss all factors leading to the decision.

ADDRESSES: A compact disk or copy of the Final EIS may be requested from Ms. Lynnette Wirth, Reclamation, by mail at 2800 Cottage Way, Sacramento, CA 95825; by e-mail at lwirth@mp.usbr.gov or by calling 916-978-5102. The final document is available online at http://www.usbr.gov/mp/ccao/roadeis. See the SUPPLEMENTARY INFORMATION section for locations where copies of the Final EIS are available for review and inspection.

FOR FURTHER INFORMATION CONTACT: Robert Schroeder, Project Manager, Bureau of Reclamation, at 916-989-7274.

SUPPLEMENTARY INFORMATION: The Final EIS addresses impacts from restricted access across Folsom Dam Road based on security issues and potential disaster flood inundation. The Preferred Alternative is the Restricted Access Alternative number two. The EIS also addresses a No-Action alternative that would reopen the road to public use similar to pre-2003 conditions, an alternative to keep the Road closed permanently to public access and two restricted access alternatives that includes the preferred alternative, and that restrict Folsom Dam Road access using a combination of vehicle inspections and restrictions on type and number of vehicles, and time of use. The Final EIS has identified the key issues to include traffic and circulation, socioeconomics, air quality, and recreation. In addition to the key issues listed above, Reclamation has identified other items that have also been included in the EIS. These include biology, water quality, cultural resources, ground water, water supply, power supply, municipal and industrial land uses, demographics, visual resources, public health, social well-being, power consumption and production, and cumulative effects.

Public hearings were held on the following dates and locations: Tuesday, January 4, 2005, in Sacramento, CA and Wednesday, January 5, 2005, in Folsom, CA.

Copies of the final documents are available for public inspection and review at the following locations:

• Sacramento Public Library, 828 I Street, Sacramento, CA 95814.

• Folsom Public Library, 300 Persifer Street, Folsom, CA 95630.

• Rancho Cordova Community Library, 9845 Folsom Blvd., Sacramento, CA 95827.

• Arden-Dimick Community Library, 891 Watt Avenue, Sacramento, CA 95864.

• Fair Oaks Community Library, 11601 Fair Oaks Boulevard, Fair Oaks, CA 95628.

• Orangevale Neighborhood Library, 8820 Greenback Lane, Suite L, Orangevale, CA 95662.

• Granite Bay Branch Library, 6475 Douglas Boulevard, Granite Bay, CA 95746.

• Cameron Park Library, 2500 Country Club Drive, Cameron Park, CA 95682.

• U.S. Bureau of Reclamation, Denver Office Library, Building 67, Room 167, Denver Federal Center, 6th and Kipling, Denver, CO 80225.

• U.S. Bureau of Reclamation, Office of Public Affairs, 2800 Cottage Way, Sacramento, CA 95825-1898; telephone: 916-978-5100.

• Natural Resources Library, U.S. Department of the Interior, 1849 C Street NW., Main Interior Building, Washington, DC 20240-0001.

Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment.

We will make all submissions from organizations or businesses, and from individuals identifying themselves as representatives or officials of organizations or businesses, available for public disclosure in their entirety.

Dated: April 11, 2005.
Kirk C. Rodgers,
Regional Director, Mid-Pacific Region.

[FR Doc. 05-8238 Filed 4-25-05; 8:45 am]

BILLING CODE 4310-MN-P